ENVIRONMENTAL PROTECTION AGENCY

[FRL-7977-8]

Science Advisory Board Staff Office; Notification of an Upcoming Meeting of the Science Advisory Board Committee on Valuing the Protection of Ecological Systems and Services (C-VPESS)

AGENCY: Environmental Protection Agency (EPA).

ACTION: Notice.

SUMMARY: The EPA Science Advisory Board (SAB) Staff Office announces a public meeting of the SAB Committee on Valuing the Protection of Ecological Systems and Services (C-VPESS) to discuss a draft advisory and initial committee work on methods for valuing the protection of ecological systems and services.

DATES: October 25-26, 2005. A public meeting of the C-VPESS will be held from 9 a.m. to 5:30 p.m. (eastern time) on October 25, 2005 and from 9 a.m. to 3:30 p.m. (eastern time) on October 26, 2005.

ADDRESSES: The meeting will take place at the SAB Conference Center, 1025 F Street, NW., Suite 3700, Washington, DC 20004.

FOR FURTHER INFORMATION CONTACT: Members of the public wishing further information regarding the SAB C-VPESS meeting may contact Dr. Angela Nugent, Designated Federal Officer (DFO), via telephone at: 202-343-9981 or e-mail at: nugent.angela@epa.gov. The SAB mailing address is: U.S. EPA, Science Advisory Board (1400F), 1200 Pennsylvania Avenue, NW., Washington, DC 20460. General information about the SAB, as well as any updates concerning the meetings announced in this notice, may be found in the SAB Web site at: http://www.epa.gov/sab.

SUPPLEMENTARY INFORMATION:

Background

Background on the SAB C-VPESS and its charge was provided in 68 Fed. Reg. 11082 (March 7, 2003). The purpose of the meeting is for the SAB C-VPESS to discuss a draft advisory report calling for expanded and integrated approach for valuing the protection of ecological systems and services. The Committee will also discuss initial work on describing and assessing methods for such valuation, a topic that the Committee plans to address in a separate advisory report. These activities are related to the Committee's overall charge: to assess Agency needs and the state of the art and science of valuing protection of ecological systems and services and to identify key areas for improving knowledge, methodologies, practice, and research.

Availability of Review Material for the Meetings

The Agenda and materials for this meeting will be available from the SAB Staff Office Web site at: http://www.epa.gov/sab/agendas.htm.

Procedures for Providing Public Comment

It is the policy of the EPA SAB Staff Office to accept written public comments of any length, and to accommodate oral public comments whenever possible. Requests to provide oral comments at the October 25-26th meeting must be made in writing (by mail, e-mail, or fax) and received by Dr. Nugent no later than October 18, 2005.

Oral Comments: Each individual or group requesting an oral presentation at this meeting will be limited to a total time of ten minutes. Speakers should bring at least 35 copies of their comments and presentation slides for distribution to the participants and public at the meeting.

Written Comments: Written comments should be received in the SAB Staff Office by October 18, 2005 so that the comments may be made available to the committee for their consideration. Comments should be supplied to the DFO at the address noted above in the following formats: one hard copy with original signature, and one electronic copy via e-mail (acceptable file format: Adobe Acrobat, WordPerfect, Word, or Rich Text files (in IBM-PC/Windows 98/2000/XP format)). Those providing written comments and who attend the meeting are asked to bring 35 copies of their comments for public distribution.

Meeting Accommodations

For information on access or services for individuals with disabilities, please contact Dr. Nugent at the e-mail and phone number above. To request accommodation of a disability, please contact Dr. Nugent, preferably at least 10 days prior to the meeting, to give EPA as much time as possible to process your request.

Dated: September 26, 2005.
Anthony Maciorowski,
Associate Director for Science, EPA Science Advisory Board Staff Office.

[FR Doc. 05-19624 Filed 9-29-05; 8:45 am]

BILLING CODE 6560-50-P